DEPARTMENT OF JUSTICE

Notice of Lodging of Proposed Consent Decree Under the Clean Air Act

On July 11, 2019, the Department of Justice lodged a proposed Consent Decree with the United States District Court for the Northern District of Illinois in the lawsuit entitled United States v. Clean Harbors Recycling Services of Chicago, LLC, et al., Civil Action No. 19-cv-4657.

The United States filed a Complaint in this lawsuit seeking civil penalties and injunctive relief from Defendants Clean Harbors Recycling Services of Chicago, LLC, and Clean Harbors Recycling Services of Ohio, LLC (collectively “Clean Harbors”) for alleged violations of the Clean Air Act, 42 U.S.C. 7401-7671q, at Clean Harbors' spent industrial solvent treatment, storage, and disposal facilities in Chicago, Illinois, and Hebron, Ohio (the “Facilities”). The Complaint alleges that Clean Harbors has violated statutory and regulatory requirements applicable to solvent storage tanks at the Facilities arising under the Clean Air Act and National Emission Standards for Hazardous Air Pollutants (“NESHAP”) regulations promulgated by the U.S. Environmental Protection Agency, including the NESHAP general provisions (codified at 40 CFR part 63, subpart A) and the NESHAP for Off-Site Waste and Recovery Operations (codified at 40 CFR part 63, subpart DD).

When the Complaint was filed, the United States also lodged a proposed Consent Decree that would settle the claims asserted in the Complaint. Among other things, the proposed Consent Decree would require Clean Harbors to implement appropriate injunctive relief to control air pollutant emissions from storage tanks at the Facilities, undertake additional mitigation measures to help offset unauthorized past air pollutant emissions, and pay a total of $405,000 in civil penalties to the United States.

The publication of this notice opens a period for public comment on the proposed Consent Decree. Comments should be addressed to the Assistant Attorney General, Environment and Natural Resources Division, and should refer to United States v. Clean Harbors Recycling Services of Chicago, LLC, et al., D.J. Ref. No. 90-5-2-1-11990. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees.

We will provide a paper copy of the proposed Consent Decree upon written request and payment of reproduction costs. Please mail your request and payment to: Consent Decree Library, U.S. DOJ—ENRD, P.O. Box 7611, Washington, DC 20044-7611.

Please enclose a check or money order for $18.75 (25 cents per page reproduction cost) payable to the United States Treasury.

Randall M. Stone,
Acting Assistant Section Chief, Environmental Enforcement Section, Environment and Natural Resources Division.

[FR Doc. 2019-15087 Filed 7-15-19; 8:45 am]

BILLING CODE 4410-15-P